DEPARTMENT OF ENERGY

Federal Energy Regulatory Commission

[Project No. 14387-000]

Albany Engineering Corporation; Notice of Preliminary Permit Application Accepted for Filing and Soliciting Comments, Motions To Intervene, and Competing Applications

On April 18, 2012, Albany Engineering Corporation filed an application for a preliminary permit, pursuant to section 4(f) of the Federal Power Act (FPA), proposing to study the feasibility of hydropower at the New York State Canal Corporation's Lock C1 Dam located on the Hudson River in Saratoga and Rensselaer Counties, New York. The sole purpose of a preliminary permit, if issued, is to grant the permit holder priority to file a license application during the permit term. A preliminary permit does not authorize the permit holder to perform any land-disturbing activities or otherwise enter upon lands or waters owned by others without the owners' express permission.

The proposed Waterford Hydroelectric Project would consist of the following: (1) An existing 672-foot-long and 15-foot-high ogee-shaped concrete gravity dam with a 356-foot-long tainter-gated structure forming the eastern portion of the dam; (2) an existing impoundment having a surface area of 400 acres and a storage capacity of 5,000 acre-feet at the spillway crest elevation of 28.3 feet National Geodetic Vertical Datum (NGVD); (3) either a new powerhouse at the east end of the tainter-gated structure with two identical turbine generator units with a total installed capacity of 10.2 megawatts (MW) (Scenario 1), or two new identical powerhouses at the west end of the tainter-gated structure housing 18 turbine generator units with a total installed capacity of 6.0 MW (Scenario 2); (4) a proposed 10,000-foot-long, 34.5-kilovolt transmission line; and (5) appurtenant facilities. The proposed project would have an annual generation of 39,000 megawatt-hours (MWh) (Scenario 1) or 16,000 MWh (Scenario 2).

Applicant Contact: Wendy Jo Carey, Albany Engineering Corporation, 5 Washington Square, Albany, NY 12205; phone: (518) 456-7712.

FERC Contact: Monir Chowdhury; phone: (202) 502-6736.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14387-000) in the docket number field to access the document. For assistance, contact FERC Online Support.

Dated: May 16, 2012.
Kimberly D. Bose,
Secretary.

[FR Doc. 2012-12450 Filed 5-22-12; 8:45 am]

BILLING CODE 6717-01-P